POSTAL SERVICE

International Product Change—Inbound Competitive Non-Published Rate Agreements With Foreign Postal Operators

AGENCY: Postal Service™.

ACTION: Notice.

SUMMARY: The Postal Service gives notice of filing a request with the Postal Regulatory Commission to add Inbound Competitive Non-Published Rate Agreements with Foreign Postal Operators to the Competitive Products List.

DATES: Date of notice: August 8, 2019.

FOR FURTHER INFORMATION CONTACT: Christopher C. Meyerson, 202-268-7820.

SUPPLEMENTARY INFORMATION: The United States Postal Service® hereby gives notice that, pursuant to 39 U.S.C. 3642, on August 2, 2019, it filed with the Postal Regulatory Commission a Request of the United States Postal Service to add Inbound Competitive Non-Published Rate Agreements with Foreign Postal Operators to the Competitive Products List and Notice of Filing Inbound Competitive NPR-FPO 1 Model Contract and Application for Non-Public Treatment of Materials Filed Under Seal. Documents are available at www.prc.gov, Docket Nos. MC2019-180 and CP2019-202.

Christopher C. Meyerson,
Attorney, Corporate and Postal Business Law.

[FR Doc. 2019-16971 Filed 8-7-19; 8:45 am]

BILLING CODE 7710-12-P